DEPARTMENT OF DEFENSE

Defense Acquisition Regulations System

48 CFR Parts 207, 215, 227, and 252

[Docket DARS-2023-0044]

RIN 0750-AL24

Defense Federal Acquisition Regulation Supplement: Modular Open Systems Approaches (DFARS Case 2021-D005); Extension of Comment Period

AGENCY: Defense Acquisition Regulations System, Department of Defense (DoD).

ACTION: Advance notice of proposed rulemaking; extension of comment period.

SUMMARY: DoD published an advance notice of proposed rulemaking on November 17, 2023, seeking public input on a proposed revision to the Defense Federal Acquisition Regulation Supplement (DFARS) to implement certain elements of sections of the National Defense Authorization Acts for Fiscal Years 2012, 2017, and 2021, which establish contract requirements that enable modular open system approaches. The deadline for submitting comments is being extended to provide additional time for interested parties to provide comments.

DATES: The comment period for the advance notice of proposed rulemaking published November 17, 2023 at 88 FR 80258, is extended. Comments on the advance notice of proposed rulemaking should be submitted in writing to the address shown in ADDRESSES on or before February 15, 2024, to be considered in the formation of a proposed rule.

ADDRESSES: Submit comments identified by DFARS Case 2021-D005, using either of the following methods:

○ Federal eRulemaking Portal: https://www.regulations.gov. Search for “DFARS Case 2021-D005.” Select “Comment” and follow the instructions provided to submit a comment. Please include “DFARS Case 2021-D005” on any attached documents.

○ Email: osd.dfars@mail.mil. Include DFARS Case 2021-D005 in the subject line of the message.

Comments received generally will be posted without change to https://www.regulations.gov, including any personal information provided. To confirm receipt of your comment(s), please check https://www.regulations.gov, approximately two to three days after submission to verify posting.

FOR FURTHER INFORMATION CONTACT: Mr. David Johnson, telephone 202-913-5764.

SUPPLEMENTARY INFORMATION: On November 17, 2023, DoD published an advance notice of proposed rulemaking (ANPR) in the Federal Register at 88 FR 80258 seeking public input on potential DFARS changes to implement certain elements of sections of the National Defense Authorization Acts for Fiscal Years 2012, 2017, and 2021. These sections establish contract requirements that enable modular open system approaches. DoD held a public meeting on December 14, 2023, regarding this ANPR. DoD does not plan to hold a second public meeting on this ANPR.

The comment period for the ANPR is extended through February 15, 2024, to provide additional time for interested parties to comment on the potential DFARS changes.

List of Subjects in 48 CFR Parts 207, 215, 227, and 252

Government procurement.

Jennifer D. Johnson,
Editor/Publisher, Defense Acquisition Regulations System.

[FR Doc. 2023-28415 Filed 12-26-23; 8:45 am]

BILLING CODE 6001-FR-P